NATIONAL SCIENCE FOUNDATION

National Artificial Intelligence Research Resource Task Force; Notice of Meeting

In accordance with the Federal Advisory Committee Act (Pub. L. 92-463, as amended), the National Science Foundation (NSF) announces the following meeting:

Name and Committee Code: National Artificial Intelligence Research Resource Task Force (84629).

Date and Time: July 25, 2022, 11:00 a.m. to 5:00 p.m. EDT.

Place: NSF, 2415 Eisenhower Avenue, Alexandria, VA 22314/Virtual.

Virtual meeting attendance only; to attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will receive readouts from working-group discussions held on the topics of developing a startup, funding, and sustainment roadmap; defining specific structures and processes around the ownership and administration of the NAIRR; implementing ethical/responsible research controls; and integrating computational, data, and testbed resources into a federated cyberinfrastructure. The Task Force will also discuss international perspectives on the NAIRR and statutory authorities related to establishing the NAIRR, and deliberate on an outline of the final implementation plan.

Dated: June 9, 2022.
Crystal Robinson,
Committee Management Officer.

[FR Doc. 2022-12851 Filed 6-14-22; 8:45 am]

BILLING CODE 7555-01-P